DEPARTMENT OF TRANSPORTATION

National Highway Traffic Safety Administration

[Docket No. NHTSA-2017-0070]

Agency Request for Approval of a New Information Collection: Recruitment and Debriefing of Human Subjects for a Study on Commercial Vehicle Crash Avoidance Systems (CAS)

ACTION: Request for public comments on a proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes a new information collection for which NHTSA intends to seek OMB approval.

DATES: Written comments should be submitted by October 10, 2017.

ADDRESSES: You may submit comments identified by Docket No. NHTSA-2017-0070 through one of the following methods:

• Federal eRulemaking Portal: Go to http://www.regulations.gov. Follow the online instructions for submitting comments.

• Mail or Hand Delivery: Docket Management Facility, U.S. Department of Transportation, 1200 New Jersey Avenue SE., West Building Ground Floor, Room W12-140, Washington, DC 20590 between 9 a.m. and 5 p.m. Eastern Time, Monday through Friday, except Federal holidays. Telephone: 202-366-9826.

• Fax: 202-493-2251.

Instructions: All submission must include the agency name and docket number for this proposed collection of information. Note that all comments received will be posted without change to http://www.regulation.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read comments received, go to http://www.regulations.gov, or the street address listed above. Follow the online instructions for accessing the dockets.

FOR FURTHER INFORMATION CONTACT: Alrik L. Svenson, Office of Vehicle Safety Research, National Highway Traffic Safety Administration, U.S. Department of Transportation, 1200 New Jersey Avenue SE., Washington, DC 20590, Telephone: 202-366-0436. For access to background documents, please contact Mr. Svenson.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information for which the agency is seeking approval from OMB:

Title: Field Study of Newer Generation Heavy Vehicle Automatic Emergency Braking (AEB) Systems

OMB Control Number: Not assigned.

Form Numbers: None.

Type of Review: New Information Collection.

Background: The National Highway Traffic Safety Administration (NHTSA) is assessing the benefits of crash avoidance technologies for heavy trucks that include Automatic Emergency Braking (AEB) to prevent fatalities, injuries, and property damage in crashes involving heavy vehicles. Previous studies have investigated crash problem size, economic cost, and preliminary safety benefits concerning these systems. The underlying methods of these studies have included test track evaluations, objective test procedures, technology field demonstrations, and “naturalistic” studies. As both of the major AEB system suppliers are scheduled to release new products in the second half of 2016, NHTSA is interested in the real world performance of these new systems, which are designed to address the shortcomings of the previous generation of AEB systems. These systems have been designed to offer improved threat detection and new features such as stationary object braking. Additionally, a new product called Detroit Assurance™ was released in 2015 for Freightliner trucks by Detroit Diesel Corporation. This system shares many features with the OnGuard and Wingman® products including advanced emergency braking (AEB), forward collision warnings (FCW), and adaptive cruise control (ACC).

Description of the Need for the Information and Proposed Use of the Information: The collection of information consists of: (1) A demographic questionnaire, (2) initial CAS technology questionnaires, and (3) post study CAS technology questionnaire.

The information to be collected will be used as follows:

• Demographic questionnaire will be used to obtain demographic information so that analysis may account for participants from various groups (e.g., age gender, driving experience, and experience with CAS technology).

• Initial CAS technology questionnaires will be used to get information about drivers' beliefs and attitude towards the CAS technology installed on the commercial vehicle they use for their job. These questionnaires will assess perceived usability of the systems in terms of acceptance and satisfaction, as well as willingness to have this technology in their vehicle. Each driver will complete this survey at the start of his or her data collection.

• Post study CAS technology questionnaires will be used to get information about drivers' beliefs and attitude towards the CAS technology installed on the commercial vehicle they use for their job. These questionnaires will also be used to assess perceived distraction potential of the systems in terms. Each driver will complete a post study questionnaire once, after the completion of his or her data collection. The post study survey will gauge how drivers' attitudes and preferences may have changed over the course of participation.

• Each participating driver will have a data acquisition system installed in their vehicle for three months while they perform their normal work duties. This system will collect video of the driver and forward roadway, telemetry and vehicle network data related to driving, and activations of the vehicle's CAS.

Respondents: Commercial vehicle drivers who are assigned a single, specific commercial vehicle that is equipped with the eligible technologies. Trucking fleets (approximately 7-10) will be contacted first to see if they have trucks equipped with the technologies and would be willing to have their drivers participate in the study.

Estimated Number of Respondents: 175, after compensating for potential drop-outs

Estimated Number of Responses: Full participation in the study will include 3 responses for a total of 92 questions per participant, plus a consent form that will be reviewed prior to participation.

Estimated Total Annual Burden: 110 minutes per respondent, including consent (204 hours total).

Estimated Frequency: Twice at the start of participation (demographic and initial CAS technology surveys), once at the completion of participation approximately 3 months later.

Table 1—Estimated Burden Hours
Instrument | Number of respondents ¹ | Frequency of responses | Number of questions | Estimated individual burden (minutes) | Total estimated burden hours | Total annualize cost to respondents ²
Informed Consent Form | 175 | 1 | N/A | 10 | 29 | $584.64
Demographic questionnaire | 175 | 1 | 19 | 10 | 29 | 584.64
Initial CAS Technology Survey | 175 | 1 | 36 | 25 | 73 | 1,471.68
Final CAS Technology Survey | 175 | 1 | 37 | 25 | 73 | 1,471.68
Total |  |  |  |  | 204 | 4,112.44
¹ The number of respondents in this table includes drop-out rates.
² Estimated based on the mean hourly rate nationwide for Heavy and Tractor-Trailer Truck Drivers of $20.16 as reported in the May 2014 Occupational Employment and Wage Estimates, Bureau of Labor Statistics. http://www.bls.gov/oes/current/oes_nat.htm#35-0000.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995, 44. U.S.C. Chapter 35, as amended; 5 CFR part 1320; and 49 CFR 1.95.

Issued in Washington, DC.
Nathaniel Beuse,
Associate Administrator for Vehicle Safety Research.

[FR Doc. 2017-16650 Filed 8-7-17; 8:45 am]

BILLING CODE 4910-59-P